FEDERAL COMMUNICATIONS COMMISSION

Information Collection Being Reviewed by the Federal Communications Commission Under Delegated Authority

AGENCY: Federal Communications Commission.

ACTION: Notice; request for comments.

SUMMARY: As part of its continuing effort to reduce paperwork burden and as required by the Paperwork Reduction Act (PRA) of 1995 (44 U.S.C. 3501—3520), the Federal Communications Commission invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before August 31, 2012. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0723.

Title: 47 U.S.C. section 276, Public Disclosure of Network Information By Bell Operating Companies (BOCs).

Form Number: N/A.

Type of Review: Extension of a currently approved collection.

Respondents: Business or other for-profit entities.

Number of Respondents: 3 respondents; 3 responses.

Estimated Time per Response: 120 hours.

Frequency of Response: On occasion reporting requirements and third party disclosure requirement.

Obligation to Respond: Required to obtain or retain benefits. Statutory authority for this information collection is contained in 47 U.S.C. section 276 of the Communications Act of 1934, as amended.

Total Annual Burden: 360 hours.

Total Annual Cost: N/A.

Privacy Impact Assessment: N/A.

Nature and Extent of Confidentiality: The Commission is not requesting respondents to submit confidential information to the FCC. If the Commission requests respondents to submit information which respondents believe is confidential, respondents may request confidential treatment of such information under 47 CFR section 0.459 of the Commission's rules.

Needs and Uses: The Commission is seeking an extension of this information collection in order to obtain the full three year approval from OMB. There is no change to the reporting requirements and/or third party disclosure requirement.

Under 47 U.S.C. section 276(b)(1), the Bell Operating Companies (BOCs) are required to publicly disclose changes in their networks or new network services. Section 276(b(1)(C) directs the Commission to “prescribe a set of nonstructural safeguards for BOC payphone service to implement the provisions of paragraphs (1) and (2) of subsection (a), which safeguards shall, at a minimum, include the nonstructural safeguards equal to those adopted in the Computer Inquiry-III (CC Docket No. 90-623) proceeding.” The Computer Inquiry-III network information disclosure requirements specifically state that the disclosure would occur at two different points in time. First, disclosure would occur at the make/buy point: When a BOC decides to make for itself, or procure from an unaffiliated entity, any product whose design affects or relies on the network interface. Second, a BOC would publicly disclose technical information about a new service 12 months before it is introduced. If the BOC can introduce the service within 12 months of the make/buy point, it would make a public disclosure at the make/buy point. In no event, however, would the public disclosure occur less than six months before the introduction of the service.

Without provision of this information, the industry would be unable to ascertain whether the BOCs are designing new network services or changing network technical specifications to the advantage of their own payphones, or in a manner that might disadvantage BOC payphone competitors.

These requirements ensure that BOCs comply with their obligations under the Telecommunications Act of 1996.

OMB Control Number: 3060-0745.

Title: Implementation of the Local Exchange Carrier Tariff Streamlining Provisions of the Telecommunications Act of 1996, CC Docket No. 96-187.

Form Number: N/A.

Type of Review: Extension of a currently approved collection.

Respondents: Business or other for-profit entities.

Number of Respondents: 50 respondents; 1,536 responses.

Estimated Time per Response: .25 hours to 5 hours.

Frequency of Response: On occasion reporting requirements, recordkeeping requirement and third party disclosure requirement.

Obligation to Respond: Required to obtain or retain benefits. Statutory authority for this information collection is contained in 47 U.S.C. 151, 154(i) and 204(a)(3) of the Communications Act of 1934, as amended.

Total Annual Burden: 4,054 hours.

Total Annual Cost: $808,750.

Privacy Impact Assessment: N/A.

Nature and Extent of Confidentiality: The Commission is not requesting respondents to submit confidential information to the FCC. If the Commission requests respondents to submit information which respondents believe is confidential, respondents may request confidential treatment of such information under 47 CFR section 0.459 of the Commission's rules.

Needs and Uses: The Commission is seeking an extension of this information collection in order to obtain the full three year approval from OMB. There is no change to the reporting requirements, recordkeeping requirements and/or third party disclosure requirements. The Commission is now reporting a $22,500 increase in annual costs. This increase adjustment is due to an increase in the filing fee from $815 per filing to $845 per filing.

In CC Docket No. 96-187, the Commission adopted measures to streamline tariff filing requirements for local exchange carriers (LECs) pursuant to the Telecommunications Act of 1996. In order to achieve a streamlined and deregulatory environment for LEC tariff filings, local exchange carriers are required to file tariffs electronically. There are eight information collection requirements that contain reporting, third party disclosure and recordkeeping requirements. These are described in the Supporting Statement that will accompany the submission to OMB. They are: (1) Electronic filing requirement; (2) requirement that carriers desiring tariffs proposing rate decreases to be effective seven days file separate transmittals; (3) requirement that carriers identify transmittals filed pursuant to the streamlined provisions of the 1996 Act; (4) the requirements are described in the Supporting Statement that will accompany the submission to OMB. They are: (1) Electronic filing requirement for LECs to file tariffs seven and fifteen days notice; (2) requirement that carriers desiring tariffs proposing rate decreases to be effective seven days file separate transmittals; (3) requirement that carriers identify transmittals filed pursuant to the streamlined provisions of the 1996 Act; (4) requirement that price cap LECs file their Tariff Review Plans prior to filing their annual access tariffs; (5) filing petitions and replies electronically (reporting requirement); (6) filing petitions and replies electronically (third party disclosure requirement); (7) recordkeeping requirement (standard protective order); and (8) reporting requirement (standard protective order).

The information collected via electronic filing will facilitate access to tariff and associated documents by the public, especially by interested persons or parties who do not have ready access to the Commission's public reference center, and state and federal regulators. Electronic access to carrier tariffs should also facilitate the compilation of aggregate data for industry analysis purposes without imposing new reporting requirements on carriers. Carriers desiring tariffs proposing rate decreases to be effective in seven days must file a separate transmittal. This requirement will ensure that a tariff filing proposing a rate decrease is given the shortest notice period possible under the 1996 Act. The Commission also adopted the requirement that carriers identify transmittals filed pursuant to the streamlining provisions of the 1996 Act.

All of the requirements help to ensure that local exchange carriers comply with their obligations under the Communications Act and that the Commission is able to ensure compliance within the streamlined timeframes established in the 1996 Act.

Federal Communications Commission.
Marlene H. Dortch,
Secretary, Office of the Secretary, Office of Managing Director.

[FR Doc. 2012-16123 Filed 6-29-12; 8:45 am]

BILLING CODE 6712-01-P